DEPARTMENT OF THE INTERIOR

Bureau of Land Management

[AA-8103-15, AA-8103-17; LLAK965000-L14100000-KC0000-P]

Alaska Native Claims Selection

AGENCY: Bureau of Land Management, Interior.

ACTION: Notice of decision approving lands for conveyance.

SUMMARY: As required by 43 CFR 2650.7(d), notice is hereby given that an appealable decision will be issued by the Bureau of Land Management to Doyon, Limited. The decision approves conveyance of the surface and subsurface estates in the lands described below pursuant to the Alaska Native Claims Settlement Act. The lands are in the vicinity of Flat, Alaska, and are located in:

Seward Meridian, Alaska

T. 26 N., R. 47 W.,

Sec. 3, those lands formerly within mining claim recordations AA-32360, AA-32362, AA-32363, AA-32364, and AA-32365;

Sec. 10, those lands formerly within mining claim recordation AA- 32365.

Containing approximately 155 acres.

T. 27 N., R. 47 W.,

Sec. 34, those lands formerly within mining claim recordations AA-32360, AA-32361, and AA-32362.

Containing approximately 55 acres.

Aggregating approximately 210 acres.

Notice of the decision will also be published four times in the Fairbanks Daily News-Miner.

DATES: Any party claiming a property interest in the lands affected by the decision may appeal the decision within the following time limits:

1. Unknown parties, parties unable to be located after reasonable efforts have been expended to locate, parties who fail or refuse to sign their return receipt, and parties who receive a copy of the decision by regular mail which is not certified, return receipt requested, shall have until February 18, 2011 to file an appeal.

2. Parties receiving service of the decision by certified mail shall have 30 days from the date of receipt to file an appeal.

Parties who do not file an appeal in accordance with the requirements of 43 CFR part 4, Subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, by e-mail at ak.blm.conveyance@blm.gov, or by telecommunication device (TTD) through the Federal Information Relay Service (FIRS) at 1-800-877-8339, 24 hours a day, seven days a week.

John Leaf,
Land Law Examiner, Land Transfer Adjudication II Branch.

[FR Doc. 2011-989 Filed 1-18-11; 8:45 am]

BILLING CODE 4310-JA-P